DEPARTMENT OF ENERGY

Federal Energy Regulatory Commission

[Docket No. RP03-536-000]

Trunkline LNG Company, LLC; Notice of Tariff Filing

July 9, 2003.

Take notice that on July 1, 2003, Trunkline LNG Company, LLC., (Trunkline) tendered for filing as part of its FERC Gas Tariff, Second Revised Volume No. 1-A, First Revised Sheet No. 5, to become effective August 1, 2003.

Trunkline states that the filing is being made in accordance with Section 19 (Fuel Reimbursement Adjustment) and Section 20 (Electric Power Cost Adjustment) of the General Terms and Conditions (GT&C) of Trunkline's FERC gAs Tariff, Second Revised Volume No. 1-A.

Trunkline states that copies of the filing are being served on all affected customers and interested state regulatory agencies.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Intervention and Protest Date: July 14, 2003.

Magalie R. Salas,
Secretary.

[FR Doc. 03-17892 Filed 7-15-03; 8:45 am]

BILLING CODE 6717-01-P